DEPARTMENT OF HOMELAND SECURITY

U.S. Citizenship and Immigration Services

[CIS No. 2390-06]

RIN 1615-ZA36

Extension of the Designation of Temporary Protected Status for Nicaragua; Automatic Extension of Employment Authorization Documentation for Nicaragua TPS Beneficiaries; Correction

AGENCY: U.S. Citizenship and Immigration Services, Department of Homeland Security.

ACTION: Notice of correction.

SUMMARY: U.S. Citizenship and Immigration Services (USCIS) is correcting a notice that was published in the Federal Register on March 31, 2006 at 71 FR 16333 which announced the extension of the Temporary Protected Status (TPS) designation for Nicaragua. In the section titled “Effective Dates” in the notice, USCIS inadvertently misstated that the 60-day re-registration period begins on April 1, 2006 and will remain in effect until June 30, 2007. The correct end date of the re-registration period, as noted elsewhere in that notice, is June 30, 2006. Therefore, USCIS is notifying affected nationals of Nicaragua (and those aliens having no nationality who last habitually resided in Nicaragua) of the correct dates for re-registration.

DATES: This correction is effective May 19, 2006.

FOR FURTHER INFORMATION CONTACT: Sean Robinson, Service Center Operations, U.S. Citizenship and Immigration Services, Department of Homeland Security, 20 Massachusetts Avenue, NW., 2nd floor, Washington, DC 20529, telephone (202) 272-8350.

SUPPLEMENTARY INFORMATION:

Need for Correction

As published in the Federal Register on March 31, 2006 (71 FR 16333), the notice contains an error that is in need of correction.

Correction of Publication

Accordingly, the publication on March 31, 2006 (71 FR 16333), of the notice that was the subject of FR Doc. E6-4686 is corrected as follows:

1. On page 16333, in the third column, in the sixth line under “Effective Dates” the date “June 30, 2007” is corrected to read: “June 30, 2006.”

Dated: May 16, 2006.
Richard A. Sloan,
Director, Regulatory Management Division, U.S. Citizenship and Immigration Services.

[FR Doc. E6-7686 Filed 5-18-06; 8:45 am]

BILLING CODE 4410-10-P